POSTAL REGULATORY COMMISSION

[Docket No. MC2025-1380; Order No. 8840]

Competitive Postal Products

AGENCY: Postal Regulatory Commission.

ACTION: Notice.

SUMMARY: The Commission is recognizing a recent filing by the Postal Service concerning a product description change to the Mail Classification Schedule. This notice informs the public of the filing, invites public comment, and takes other administrative steps.

DATES: Comments are due: May 21, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Postal Service Request

III. Commission Action

IV. Ordering Paragraphs

I. Introduction

On May 13, 2025, pursuant to 39 CFR 3040.190, the Postal Service filed a notice requesting a correction to the Priority Mail Express product description in the Mail Classification Schedule (MCS).¹

¹ Notice of United States Postal Service of Minor Classification Change, May 13, 2025 (Notice).

II. Postal Service Request

The Postal Service notes its intention to “remove a reference to the service commitment in the Priority Mail Express product description,” which will “align the MCS with the operational and service standard changes” contemplated in Docket No. N2024-1 and consistent with recent updates to the Domestic Mail Manual (DMM).² The Postal Service explains that, as part of Docket No. N2024-1, it proposed certain operational initiatives, including the Regional Transportation Optimization (RTO) initiative, which required the revision of service standards for certain products, including Priority Mail Express. Notice at 1-2. The RTO initiative altered Priority Mail Express service standards from a 1-2 day delivery product to a 1-3 day delivery product, effective April 1, 2025. Id. at 2. Consistent with the RTO initiative, the Postal Service published changes to the DMM, updating the description of Priority Mail Express. See 90 FR 14338. Now, the Postal Service seeks to delete a sentence in the MCS product description of Priority Mail Express that refers to this “outdated service commitment.” Notice at 2. Furthermore, the Postal Service maintains that this deletion aligns the Priority Mail Express product description with other product descriptions in the MCS that do not reference service commitment time frames. Id.

² Notice at 1. See generally Docket No. N2024-1, United States Postal Service Request for an Advisory Opinion on Changes in the Nature of Postal Services, October 4, 2024; see also 90 FR 14338 (Apr. 1, 2025); Notice, Attachment 1.

The Postal Service indicates that the proposed correction to Priority Mail Express is consistent with the policies and the applicable criteria of chapter 36 of Title 39 of the United State Code, chapter 36 of Title 39 of the Code of Federal Regulations, and applicable Commission directives and orders. Id. at 3. The Postal Service also indicates that the proposed correction does not rise to the level of a material change for the purposes of 39 CFR 3040.180. Id. at 4. Finally, the Postal Service notes that the intended effective date of the proposed correction is May 28, 2025 to ensure that the MCS represents the Postal Service's current offerings as timely as possible.³

³ Id. As noted above, the operational and service changes related to Priority Mail Express went into effect April 1, 2025 or 43 days ago. The Postal Service provides an explanation for its delay in requesting this correction. Id. at 5.

In accordance with 39 CFR 3040.190(c), the Postal Service includes conforming changes to the MCS as an attachment to the Notice. See id., Attachment 2.

III. Commission Action

The Commission establishes Docket No. MC2025-1380 for consideration of matters raised by the Notice.

Pursuant to 39 CFR 3040.191, the Commission has posted the Notice on its website and invites comments on whether the Postal Service's filings are consistent with the policies and applicable criteria of chapter 36 of Title 39 of the United States Code, 39 CFR 3040.190-192, and any applicable Commission directives and orders. Comments are due May 21, 2025. The public portions of the filings can be accessed via the Commission's website (https://www.prc.gov).

The Commission appoints R. Tim Boone to represent the interests of the general public (Public Representative) in this docket, pursuant to 39 U.S.C. 505 and 39 CFR 3040.191(d). The Public Representative does not represent any individual person, entity or particular point of view, and, when Commission attorneys are appointed, no attorney-client relationship is established.

IV. Ordering Paragraphs

It is ordered:

1. The Commission establishes Docket No. MC2025-1380 for consideration of matters raised by the Postal Service's Notice.

2. Pursuant to 39 U.S.C. 505 and 39 CFR 3040.191(d), R. Tim Boone is appointed to serve as an officer of the Commission (Public Representative) to represent the interests of the general public in this proceeding.

3. Comments are due May 21, 2025.

4. The Secretary shall arrange for publication of this Order in the Federal Register.

By the Commission.
Erica A. Barker,
Secretary.

[FR Doc. 2025-08919 Filed 5-19-25; 8:45 am]

BILLING CODE 7710-FW-P